DEPARTMENT OF ENERGY

Federal Energy Regulatory Commission

[Docket No. EC05-23-000, et al.]

Metro Energy, L.L.C., et al.; Electric Rate and Corporate Filings

December 2, 2004.

The following filings have been made with the Commission. The filings are listed in ascending order within each docket classification.

1. Metro Energy, L.L.C.

[Docket Nos. EC05-23-000 and ER01-2317-004]

Take notice that on November 24, 2004, Metro Energy, L.L.C. (Metro Energy), submitted an application pursuant to section 203 of the Federal Power Act for authorization of a disposition of a jurisdictional facility whereby ownership of an ownership interest in Metro Energy held by an indirect, wholly-owned subsidiary of DTE Energy Company (DTE Energy) will be transferred to another indirect, wholly-owned subsidiary of DTE Energy. Metro Energy's states that its sole jurisdictional facility is its market-based rate tariff.

Comment Date: 5 p.m. eastern time on December 15, 2004.

2. Entergy Services, Inc.

[Docket No. ER01-2214-004]

Take notice that on November 29, 2004, Entergy Services, Inc., (Entergy) on behalf of the Entergy Operating Companies, Entergy Arkansas, Inc., Entergy Gulf States, Inc., Entergy Louisiana, Inc., Entergy Mississippi, Inc., and Entergy New Orleans, Inc., tendered its compliance filing in response to the Commission's order issued October 28, 2004, in Entergy Services, Inc., 109 FERC ¶ 61,095 (2004).

Comment Date: 5 p.m. eastern time on December 20, 2004.

3. California Independent System Operator Corporation

[Docket No. ER03-1102-007]

Take notice that on November 29, 2004, the California Independent System Operator Corporation (ISO) submitted a filing in compliance with the Commission's Order issued in Docket No. ER03-1102-006 on October 28, 2004, 109 FERC ¶ 61,087.

The ISO states that this filing has been served upon all parties on the official service list for the captioned docket. In addition, the ISO has posted this filing on the ISO home page.

Comment Date: 5 p.m. eastern time on December 20, 2004.

4. Southern California Edison Company

[Docket No. ER04-316-004]

Take notice that on November 29, 2004, Southern California Edison Company (SCE), on behalf of Mountainview Power Company, LLC (MVL), submitted a compliance filing pursuant to the Commission's Order on Rehearing issued October 28, 2004, in the above captioned proceeding, 109 FERC ¶ 61,086 (2004).

SCE states that copies of the filing were served on parties on the official service list in the above-captioned proceeding.

Comment Date: 5 p.m. eastern time on December 20, 2004.

5. Midwest Independent Transmission System Operator, Inc.

[Docket No. ER04-458-005]

Take notice that, on November 29, 2004, the Midwest Independent Transmission System Operator, Inc. (Midwest ISO) submitted a compliance filing pursuant to the Commission's October 28, 2004, Order, Midwest Independent Transmission System Operator, Inc., 109 FERC ¶ 61,085 (2004). Midwest ISO states that the purpose of this filing is to revise the Midwest ISO's OATT to amend and clarify the application of Attachment X, Large Generator Interconnection Procedures (LGIP) in compliance with the Commission's directives in the October 28 Order.

The Midwest ISO has also requested waiver of the service requirements set forth in 18 CFR 385.2010. The Midwest ISO has electronically served a copy of this filing, with attachments, upon all Midwest ISO Members, Member representatives of Transmission Owners and Non-Transmission Owners, the Midwest ISO Advisory Committee participants, as well as all state commissions within the region. In addition, the Midwest ISO states that the filing has been electronically posted on the Midwest ISO's Web site at http://www.midwestiso.org under the heading “Filings to FERC” for other interested parties in this matter. The Midwest ISO also states that it will provide hard copies to any interested parties upon request.

Comment Date: 5 p.m. eastern time on December 20, 2004.

6. California Independent System Operator Corporation

[Docket No. ER04-835-005]

Take notice that on November 29, 2004, the California Independent System Operator Corporation (ISO) submitted a filing in compliance with the Commission's order issued October 29, 2004, in Docket No. ER04-835-004, 109 FERC ¶ 61,097.

The ISO states that this filing has been served upon all parties on the official service list for Docket No. ER04-835-004. In addition, the ISO states that it has posted this filing on the ISO home page.

Comment Date: 5 p.m. eastern time on December 20, 2004.

7. New England Power Pool

[Docket No. ER05-267-000]

Take notice that on November 30, 2004, the New England Power Pool (NEPOOL) Participants Committee submitted the One Hundred Ninth Agreement Amending New England Power Pool Agreement (109th Agreement) which amends Schedule 11 of the NEPOOL Tariff to add “Mirant, Kendall Repowering Project” to the List of Category B Generating Projects. NEPOOL requests an effective date of February 1, 2005.

The NEPOOL Participants Committee states that copies of these materials were sent to the NEPOOL Participants and the New England State governors and regulatory commissions.

Comment Date: 5 p.m. eastern time on December 21, 2004.

8. Midwest Independent Transmission System Operator, Inc.

[Docket No. TS05-7-000]

Take notice that, on November 24, 2004, the Midwest Independent Transmission System Operator, Inc. (“Midwest ISO”) tendered for filing a Request for Waiver of Standards of Conduct and For Expedited Action.

In its submission, the Midwest ISO requests a temporary, partial waiver of its Standards of Conduct to enable market participants to take part in the Midwest ISO's internal operator training in preparation for the commencement of Day 2 operations. The Midwest ISO requests expedited treatment for its Request for Waiver and that the Commission's standard notice and comment period be shortened.

To the extent necessary, the Midwest ISO has also requested waiver of the service requirements set forth in 18 CFR 385.2010. The Midwest ISO has electronically served a copy of this filing, with attachments, upon all Midwest ISO Members, Member representatives of Transmission Owners and Non-Transmission Owners, the Midwest ISO Advisory Committee participants, as well as all state commissions within the region. In addition, the filing has been electronically posted on the Midwest ISO's website at http://www.midwestiso.org under the heading “Filings to FERC” for other interested parties in this matter. The Midwest ISO will provide hard copies to any interested parties upon request.

Comment Date: 5 p.m. eastern time on December 9, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3591 Filed 12-9-04; 8:45 am]

BILLING CODE 6717-01-P